DEPARTMENT OF ENERGY

Federal Energy Regulatory Commission

Notice of Application and Applicant-Prepared EA Accepted for Filing, Soliciting Motions To Intervene and Protests, and Soliciting Comments, and Final Terms and Conditions, Recommendations, and Prescriptions

November 30, 2005.

Take notice that the following hydroelectric application and applicant-prepared environmental assessment has been filed with the Commission and is available for public inspection.

a. Type of Application: New Major License.

b. Project No.: 11841-002.

c. Date filed: August 12, 2004.

d. Applicant: Ketchikan Public Utilities.

e. Name of Project: Whitman Lake Hydroelectric Project.

f. Location: The Whitman Lake Hydroelectric Project would be located on Whitman Lake in Ketchikan Gateway Borough, Ketchikan, Alaska. The proposed project would affect approximately 155.8 acres of federal lands (155.0-acres managed by the U.S. Forest Service and 0.8-acres managed by the U.S. Bureau of Land Management).

g. Filed Pursuant to: Federal Power Act 16 U.S.C. 791(a)-825(r).

h. Applicant Contact: Mr. Don Thompson, WESCORP, 3035 Island Crest Way, Suite 200, Mercer Island, WA 98040; Telephone: (206) 275-1000.

i. FERC Contact: Kenneth Hogan at (202) 502-8434; e-mail: kenneth.hogan@ferc.gov.

j. Deadline for filing motions to intervene and protests, comments, and final terms and conditions, recommendations, and prescriptions: 60 days from the issuance of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, terms and conditions, recommendations, and prescriptions may be filed electronically via the Internet in lieu of paper. The Commission strongly encourages electronic filings. See 18 CFR 385.2001(a)(1)(iii) and the instructions on the Commission's Web site (http://www.ferc.gov) under the “e-Filing” link.

k. This application has been accepted for filing.

l. The proposed Whitman Lake Hydroelectric Project will have an installed generating capacity of 4.6 Megawatts with a maximum hydraulic capacity of 180 cubic feet per second (cfs). The proposed project would consist of the following features: (1) The existing 39-foot-high, 220-foot-long concrete gravity arch dam; (2) 40-foot-wide Ogee spillway within the dam; (3) a 148 surface acre reservoir (Whitman Lake); (4) a 2,450-foot-long, 45-inch-diameter penstock; (5) a 2,000-foot-long, 21-inch-diameter pipeline; (6) a horizontal Francis turbine and 3,900 kW generator, with a hydraulic capacity of 150 cfs; (7) a horizontal or vertical Francis turbine and 700 kW generator, with a hydraulic capacity of 30 cfs; and (8) other appurtenant facilities.

Ketchikan Public Utilities (KPU) estimates that the average annual generation will be 16,225 megawatthours (MWh). KPU proposes to use the project to supplement, as well as displace, other generation resources owned and operated by KPU. With the construction and operation of the project, KPU hopes to minimize its use and dependency on fossil fuel generation.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/docs-filing/esubscription.asp to be notified via email of new filings and issuances related to this or other pending projects. For assistance, contact FERC Online Support.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission directs, pursuant to section 4.34(b) of the Regulations (see Order No. 533 issued May 8, 1991, 56 FR 23108, May 20, 1991) that all comments, recommendations, terms and conditions and prescriptions concerning the application and APEA be filed with the Commission within 60 days from the issuance date of this notice. All reply comments must be filed with the Commission within 105 days from the date of this notice.

Anyone may obtain an extension of time for these deadlines from the Commission only upon a showing of good cause or extraordinary circumstances in accordance with 18 CFR 385.2008.

All filings must: (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Magalie R. Salas,
Secretary.

[FR Doc. E5-6956 Filed 12-6-05; 8:45 am]

BILLING CODE 6717-01-P